NATIONAL SCIENCE FOUNDATION

Notice of Intent To Seek Approval To Establish an Information Collection

AGENCY: National Science Foundation.

ACTION: Notice and request for comments.

SUMMARY: The National Science Foundation (NSF) is announcing plans to request clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than 3 years.

Comments: Comments are invited on (a) Whether the proposed collection of information is necessary for the proper performance of the functions of the Agency, including whether the information shall have practical utility; (b) the accuracy of the Agency's estimate of the burden of the proposed collection of information; or (c) ways to minimize the burden of the collection of information on those who are to respond, including through the use of appropriate automated, electronic, mechanical, or other technological collection techniques or other forms of information technology.

DATES: Written comments on this notice must be received by January 30, 2012 to be assured of consideration. Comments received after that date will be considered to the extent practicable.

For Additional Information or Comments: Contact Suzanne Plimpton, the NSF Reports Clearance Officer, phone (703) 292-7556, or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: Grantee Conflict of Interest Policies.

OMB Number: 3145-NEW.

Expiration Date of Approval: Not applicable.

Proposed Project

The National Science Foundation (NSF) is an independent Federal agency created by the National Science Foundation Act of 1950, as amended (42 U.S.C. 1861-75). The Act states the purpose of the NSF is “to promote the progress of science; [and] to advance the national health, prosperity, and welfare by supporting research and education in all fields of science and engineering.”

NSF has had a unique place in the Federal Government: It is responsible for the overall health of science and engineering across all disciplines. In contrast, other Federal agencies support research focused on specific missions such as health or defense. The Foundation also is committed to ensuring the nation's supply of scientists, engineers, and science and engineering educators.

NSF funds research and education in most fields of science and engineering. It does this through grants and cooperative agreements to more than 2,000 colleges, universities, K-12 school systems, businesses, informal science organizations and other research organizations throughout the U.S. The Foundation accounts for about one-fourth of Federal support to academic institutions for basic research.

NSF proposes to conduct a survey to determinate how NSF grantees identify, oversee, and manage financial conflicts of interest in research funded by NSF. This survey focuses on NSF's grantee's conflict of interest policies and procedures, and on any conflicts of interest that were identified and managed from April 1, 2007, through March 31, 2010.

By examining how NSF grantees have identified and managed their financial conflicts of interest, this survey will help the Foundation determine whether there are any areas for improvement in NSF's policies and guidelines.

Use of the Information

Analysis of the responses is necessary to determine whether there are any areas for improvement in NSF's policies and guidelines.

Respondents

Burden on the Public

The Foundation estimates about 175 responses at approximately 15 hours per response; this computes to approximately 2,625 burden hours annually.

Dated: November 28, 2011.
Suzanne H. Plimpton,
Reports Clearance Officer, National Science Foundation.

[FR Doc. 2011-30906 Filed 11-30-11; 8:45 am]

BILLING CODE 7555-01-P